DEPARTMENT OF ENERGY

Notice of Availability of the Final Environmental Impact Statement for Decommissioning and/or Long-Term Stewardship at the West Valley Demonstration Project and Western New York Nuclear Service Center

AGENCY: Department of Energy.

ACTION: Notice of availability.

SUMMARY: The U.S. Department of Energy (DOE) announces the availability of the Final Environmental Impact Statement for Decommissioning and/or Long-Term Stewardship at the West Valley Demonstration Project and Western New York Nuclear Service Center (DOE/EIS-0226) (referred to as the Final Decommissioning and/or Long-Term Stewardship EIS or “Final EIS”).

The Final EIS was prepared in accordance with the Council on Environmental Quality's National Environmental Policy Act (NEPA) Implementing Regulations (40 CFR Parts 1500-1508) and the DOE NEPA Implementing Procedures (10 CFR Part 1021). DOE and the New York State Energy Research and Development Authority (NYSERDA) are joint lead agencies for preparing the EIS, while the U.S. Nuclear Regulatory Commission (NRC), the U.S. Environmental Protection Agency (EPA), and the New York State Department of Environmental Conservation (NYSDEC) are cooperating agencies. NYSDEC and the New York State Department of Health (NYSDOH) are involved agencies under the New York State Environmental Quality Review Act (SEQR).

The Proposed Action is the completion of the West Valley Demonstration Project (WVDP) and the decommissioning and/or long-term management or stewardship of Western New York Nuclear Service Center (WNYNSC). The Proposed Action includes the decontamination and decommissioning of the waste storage tanks and facilities used in the solidification of high-level radioactive waste, and any material and hardware used in connection with the WVDP. The EIS analyzes three action alternatives for decommissioning and/or long-term stewardship of the WNYNSC, and a No Action Alternative as required by NEPA and SEQR.

DATES: DOE will announce its decision regarding future actions at WNYNSC in a Record of Decision to be published in the Federal Register no sooner than 30 days after the Environmental Protection Agency (EPA) publishes a Notice of Availability for the Final Decommissioning and/or Long-Term Stewardship EIS. NYSERDA will publish its decisions regarding actions at the WNYNSC in a Findings Statement in the New York State Environmental Notice Bulletin no sooner than 10 days after the Final EIS is issued.

ADDRESSES: See SUPPLEMENTARY INFORMATION section for addresses at which copies of the Final EIS are available for viewing, as well as addresses for use in requesting copies of the document.

FOR FURTHER INFORMATION CONTACT: For information regarding WVDP or the Final EIS, contact Catherine Bohan, EIS Document Manager, West Valley Demonstration Project, U.S. Department of Energy, Ashford Office Complex, 9030 Route 219, West Valley, NY 14171. The following Web sites may also be accessed for additional information on the Final EIS or the West Valley Site: http://www.westvalleyeis.com or http://www.wv.doe.gov. Requests for information may also be submitted via e-mail at http://www.westvalleyeis.com or by faxing toll-free to 866-306-9094.

For general information on DOE's NEPA process contact: Carol Borgstrom, Director, Office of NEPA Policy and Compliance (GC-54), U.S. Department of Energy, 1000 Independence Avenue, SW., Washington, DC 20585; e-mail AskNEPA@hq.doe.gov; telephone 202-586-4600; or leave a message at 800-472-2756. The Final EIS is also accessible through the DOE's NEPA Web site at http://www.gc.energy.gov/NEPA.

For general questions and information about NYSERDA's role in the EIS, contact Paul Bembia, Program Director, West Valley Site Management Program, New York State Energy Research and Development Authority, Ashford Office Complex, 9030 Route 219, West Valley, NY 14171; telephone 716-942-9960, extension 4900; fax 716-942-9961; or e-mail pjb@nyserda.org.

SUPPLEMENTARY INFORMATION: WNYNSC is a 1,351-hectare (3,338-acre) site located 48 kilometers (30 miles) south of Buffalo, New York, and owned by NYSERDA. In 1982, DOE assumed control but not ownership of the 68-hectare (167-acre) Project Premises portion of the site in order to conduct the WVDP, as required under the 1980 West Valley Demonstration Project Act. In 1990, DOE and NYSERDA entered into an agreement to prepare a joint EIS to address both the completion of WVDP and closure or long-term management of WNYNSC. A Draft EIS was issued for public comment in January 1996: the Draft Environmental Impact Statement for Completion of the West Valley Demonstration Project and Closure or Long-Term Management of Facilities at the Western New York Nuclear Service Center, also referred to as the 1996 Cleanup and Closure Draft EIS (DOE/EIS-0226D).

DOE and NYSERDA issued the Revised Draft Decommissioning and/or Long-Term Stewardship EIS on December 5, 2008, revising the 1996 Draft EIS. This revised draft considered the decommissioning criteria for WVDP issued by NRC since the publication of the 1996 Cleanup and Closure Draft EIS and public comments on that EIS. The public comment period on the Revised Draft Decommissioning and/or Long-Term Stewardship EIS, originally scheduled to end June 8, 2009, was extended through September 8, 2009, in response to requests from the public. Four public hearings on the Revised Draft EIS were held in locations in New York State and on the Seneca Nation of Indians Reservation during this time. DOE and NYSERDA have considered comments received and have incorporated both the comments and the agencies' responses in the EIS.

Key changes between the Draft and Final EIS include: Incorporation of updated environmental and site-specific information, changes made in response to the NYSERDA View on the Revised Draft EIS, and revision of the description of alternatives, particularly that of the Phased Decisionmaking Alternative (described in the Draft EIS as encompassing 30 years) to specify that a Phase 2 decision would be made no later than 10 years after issuance of the initial DOE Record of Decision and NYSERDA Findings Statement, if the Phased Decisionmaking Alternative is selected.

The Final Decommissioning and/or Long-Term Stewardship EIS has been prepared in accordance with NEPA (40 CFR Parts 1500-1508 and 10 CFR Part 1021) and the SEQR to examine the potential environmental impacts of the range of reasonable alternatives to decommission and/or maintain long-term stewardship at WNYNSC. The alternatives analyzed in the EIS include the Sitewide Removal Alternative, the Sitewide Close-In-Place Alternative, the Phased Decisionmaking Alternative (Preferred Alternative), and the No Action Alternative. The analysis and information contained in the EIS are intended to assist DOE and NYSERDA with consideration of potential environmental impacts prior to making decommissioning or long-term management decisions.

The Final Decommissioning and/or Long-Term Stewardship EIS will support DOE and NYSERDA decisions regarding the Proposed Action: Completion of WVDP and decommissioning and/or long-term management or stewardship of WNYNSC. This includes the disposition of the high-level radioactive waste storage tanks, the former spent nuclear fuel reprocessing plant, the North Plateau Groundwater Plume, the Cesium Prong, the NRC-Licensed Disposal Area (NDA), and the State-Licensed Disposal Area (SDA). The three action alternatives evaluated for the Proposed Action are as follows:

Sitewide Removal: Under this alternative, all site facilities identified in the Final EIS would be removed; contaminated soil, sediment, and groundwater would be removed to meet criteria that would allow unrestricted release of WNYNSC; and all radioactive, hazardous, and mixed waste would be characterized, packaged as necessary, and eventually shipped off site for disposal. This alternative is expected to generate waste for which there is currently no offsite disposal location (e.g., potential non-defense transuranic waste, commercial Class B and C low-level radioactive waste, and Greater-Than-Class C waste). This orphan waste would be stored on site until an appropriate offsite facility is available. Completion of these activities would allow unrestricted use of the site (i.e., the site could be made available for any public or private use). The Sitewide Removal Alternative includes temporary onsite storage of canisters of high-level radioactive waste previously vitrified under WVDP and currently in storage at WVDP until the waste can be shipped offsite.

Sitewide Close-In-Place: Under this alternative, most facilities would be closed in place. Major facilities and sources of contamination such as the Waste Tank Farm, NDA, and SDA would be managed at their current locations. Residual radioactivity in facilities with larger inventories of long-lived radionuclides would be isolated by specially designed closure structures and engineered barriers. These structures would be designed to meet regulatory requirements both to retain hazardous and radioactive constituents and to ensure they would be resistant to long-term degradation. This approach would allow large areas of the site to be released for unrestricted use. The NRC license for remaining portions of WNYNSC could be terminated under restricted conditions, or could be converted to a long-term license. Long-term stewardship would be provided for facilities that are closed in place and any buffer areas around them.

Phased Decisionmaking (the Preferred Alternative): Under this alternative, decommissioning would be completed in two phases. This alternative involves substantial removal actions in the first phase. In addition, during the first phase, this alternative provides for site characterization and scientific studies to facilitate decisionmaking for the remaining facilities or areas.

Phase 1 would include removal of the Main Plant Process Building and the source area of the North Plateau Groundwater Plume. In addition, the lagoons and all facilities in Waste Management Area (WMA) 2 (except the permeable treatment wall) would be removed. The Vitrification Facility, the Remote Handled Waste Facility, and a number of facilities in WMAs 5, 6, 9, and 10 would also be removed. Foundations, slabs or pads from these facilities, as well as those from previously demolished facilities, would also be removed. During Phase 1, several facilities would continue under active management. These facilities include the Waste Tank Farm and its support facilities, the Construction and Demolition Debris Landfill, the non-source area of the North Plateau Groundwater Plume, the NDA, and the SDA. Activities undertaken in Phase 1 would make use of proven technologies and available waste disposal sites to reduce the potential short-term health and safety risks from residual radioactivity and hazardous contaminants at the site. Phase 1 activities are expected to take 8 to 10 years to complete. During this 8 to 10 year period, DOE and NYSERDA would conduct a number of activities to facilitate determination of the best technical approach to complete decommissioning of the remaining facilities. These activities would include further characterization of site contamination and additional scientific studies. These additional studies would be conducted to possibly reduce technical uncertainties related to the decision on final decommissioning and long-term management of the balance of WNYNSC. In particular, these studies may address uncertainties associated with the long-term performance models, the viability and cost of exhuming buried waste and tanks, the availability of waste disposal sites, and technologies for in-place containment.

While Phase 1 activities are being conducted, DOE and NYSERDA would assess the results of site-specific studies as they become available, along with other emerging information such as applicable technology development. In consultation with NYSERDA and cooperating and involved agencies on the EIS, DOE would determine whether new information would warrant preparation of a Supplemental EIS. NYSERDA also would assess the results of site-specific studies and other information during Phase 1. NYSERDA expects to prepare and issue for public comment an EIS, or a supplement to the existing EIS, to evaluate Phase 2 decisions for the SDA and the balance of WNYNSC for which NYSERDA has responsibility.

Phase 2 decisions would be made within 10 years of the initial DOE Record of Decision and NYSERDA Findings Statement, if the Phased Decisionmaking Alternative is selected. NYSERDA and DOE would strive to make a comprehensive Phase 2 decision for the entire site that is protective of public health and safety and the environment. For WVDP, Phase 2 actions would complete decommissioning or long-term management decisionmaking according to the approach determined most appropriate during the additional Phase 1 evaluations for each remaining facility. For the SDA, alternatives that would be considered for Phase 2 actions would include at least: complete exhumation, close-in-place, and continued active management consistent with SDA permit and license requirements.

No Action Alternative: Under this alternative, no decommissioning actions would be taken. The No Action Alternative would involve the continued management and oversight of all facilities located on WNYNSC property as of the starting point for this EIS. The No Action Alternative does not meet the purpose and need for agency action, but analysis of the No Action Alternative is required under NEPA and SEQR.

Preferred Alternative: DOE and NYSERDA have identified the Phased Decisionmaking Alternative as the Preferred Alternative. DOE will announce its decision regarding future actions at WNYNSC in a Record of Decision to be published in the Federal Register no sooner than 30 days after publication of the EPA Notice of Availability for the Final EIS. NYSERDA will publish its decisions regarding actions at the WNYNSC in a Findings Statement in the New York State Environmental Notice Bulletin no sooner than 10 days after the Final EIS is issued.

Paper copies of the Final EIS are available at the Concord Public Library, 18 Chapel Street, Springville, NY 14141, (716) 592-7742; the WVDP Public Reading Room, U.S. Department of Energy, Ashford Office Complex, 9030 Route 219, West Valley, NY 14171, (716) 942-4555; and the U.S. Department of Energy, FOIA Reading Room, 1G-033, Forrestal Bldg., 1000 Independence Ave., SW., Washington, DC 20585, (202) 586-5955. Written requests for copies of the document should be directed to: Catherine Bohan, EIS Document Manager, West Valley Demonstration Project, U.S. Department of Energy, Ashford Office Complex, 9030 Route 219, West Valley, NY 14171. This Final EIS is also available electronically at http://www.westvalleyeis.com and the DOE's NEPA Web site at http://www.gc.energy.gov/NEPA.

Signed in Washington, DC, this 20th day of January 2010.
Frank Marcinowski,
Acting Chief Technical Officer for Environmental Management.

[FR Doc. 2010-1725 Filed 1-28-10; 8:45 am]

BILLING CODE 6450-01-P